DEPARTMENT OF COMMERCE

International Trade Administration

[A-580-836]

Certain Cut-To-Length Carbon-Quality Steel Plate from the Republic of Korea: Initiation of Antidumping Duty New Shipper Review

AGENCY: Enforcement and Compliance, International Trade Administration, Department of Commerce.

DATES: Effective Date: March 30, 2015.

SUMMARY: The Department of Commerce (the Department) received a timely request for a new shipper review of the antidumping duty order on certain cut-to-length carbon-quality steel plate from the Republic of Korea. The Department has determined that the request meets the statutory and regulatory requirements for initiation.

FOR FURTHER INFORMATION CONTACT: Thomas Schauer, AD/CVD Operations Office I, Enforcement and Compliance, International Trade Administration, U.S. Department of Commerce, 14th Street and Constitution Avenue NW., Washington, DC 20230; Telephone: (202) 482-0410.

SUPPLEMENTARY INFORMATION:

Background

The antidumping duty order on certain cut-to-length carbon-quality steel plate from the Republic of Korea published in the Federal Register on February 10, 2000.¹ Pursuant to section 751(a)(2)(B)(i) of the Tariff Act of 1930, as amended (the Act), we received a timely request for a new shipper review of the order from Hyundai Steel Co., Ltd. (Hyundai).² Hyundai certified that it is both the producer and exporter of the subject merchandise upon which the request was based.³

¹ See Notice of Amendment of Final Determinations of Sales at Less Than Fair Value and Antidumping Duty Orders: Certain Cut-To-Length Carbon-Quality Steel Plate Products From France, India, Indonesia, Italy, Japan and the Republic of Korea, 65 FR 6585 (February 10, 2000) (Order).

² See Hyundai's new shipper request dated February 27, 2015.

³ Id., at Exhibit 1.

Pursuant to section 751(a)(2)(B)(i)(I) of the Act and 19 CFR 351.214(b)(2)(i), Hyundai certified that it did not export subject merchandise to the United States during the period of investigation (POI).⁴ In addition, pursuant to section 751(a)(2)(B)(i)(II) of the Act and 19 CFR 351.214(b)(2)(iii)(A), Hyundai certified that, since the initiation of the investigation, it has never been affiliated with any exporter or producer who exported subject merchandise to the United States during the POI, including those respondents not individually examined during the POI.⁵

⁴ Id.

⁵ Id.

In addition to the certifications described above, pursuant to 19 CFR 351.214(b)(2), Hyundai submitted documentation establishing the following: (1) The date on which it first shipped subject merchandise for export to the United States; (2) the volume of its first shipment; and (3) the date of its first sale to an unaffiliated customer in the United States.⁶

⁶ Id., at Exhibits 1, 2, and 3.

Period of Review

In accordance with 19 CFR 351.214(g)(1)(i)(A) of the Act, the period of review (POR) for new shipper reviews initiated in the month immediately following the anniversary month will be the twelve-month period immediately preceding the anniversary month. Therefore, under this order, the POR is February 1, 2014, through January 31, 2015.

Initiation of New Shipper Review

Pursuant to section 751(a)(2)(B) of the Act and 19 CFR 351.214(d)(1), the Department finds that the request from Hyundai meets the threshold requirements for initiation of a new shipper review for shipments of certain cut-to-length carbon-quality steel plate from the Republic of Korea produced and exported by Hyundai.⁷

⁷ See the memorandum to the file entitled “Certain Cut-To-Length Carbon-Quality Steel Plate from the Republic of Korea: Initiation Checklist for Antidumping Duty New Shipper Review of Hyundai Steel Co., Ltd.” dated concurrently with this notice.

The Department intends to issue the preliminary results of this new shipper review no later than 180 days from the date of initiation and final results of the review no later than 90 days after the date the preliminary results are issued.⁸

⁸ See section 751(a)(2)(B)(iv) of the Act.

We will instruct U.S. Customs and Border Protection to allow, at the option of the importer, the posting, until the completion of the review, of a bond or security in lieu of a cash deposit for each entry of the subject merchandise from Hyundai in accordance with section 751(a)(2)(B)(iii) of the Act and 19 CFR 351.214(e). Because Hyundai certified that it produced and exported subject merchandise, the sale of which is the basis for the request for a new shipper review, we will apply the bonding privilege to Hyundai only for subject merchandise which was produced and exported by Hyundai.

To assist in its analysis of the bona fides of Hyundai's sales, upon initiation of this new shipper review, the Department will require Hyundai to submit on an ongoing basis complete transaction information concerning any sales of subject merchandise to the United States that were made subsequent to the POR.

Interested parties requiring access to proprietary information in the new shipper review should submit applications for disclosure under administrative protective order in accordance with 19 CFR 351.305 and 351.306.

This initiation and notice are published in accordance with section 751(a)(2)(B) of the Act and 19 CFR 351.214 and 351.221(c)(1)(i).

Dated: March 24, 2015.
Gary Taverman,
Associate Deputy Assistant Secretary for Antidumping and Countervailing Duty Operations.

[FR Doc. 2015-07198 Filed 3-27-15; 8:45 am]

BILLING CODE 3510-DS--P